OVERSEAS PRIVATE INVESTMENT CORPORATION

Public Hearing

September 2, 2004.

OPIC's Sunshine Act notice of its public hearing was published in the Federal Register (Volume 69, Number 152, Page 48257) on August 9, 2004. No requests were received to provide testimony or submit written statements for the record; therefore, OPIC's public hearing in conjunction with OPIC's September 9, 2004 Board of Directors meeting scheduled for 10 a.m. on September 9, 2004 has been cancelled.

FOR FURTHER INFORMATION CONTACT: Information on the hearing cancellation may be obtained from Connie M. Downs at (202) 336-8438, via facsimile at (202) 218-0136, or via e-mail at cdown@opic.gov.

Dated: August 30, 2004.
Connie M. Downs,
OPIC Corporate Secretary.

[FR Doc. 04-20027 Filed 8-30-04; 11:29 am]

BILLING CODE 3210-01-M